NATIONAL SCIENCE FOUNDATION

Agency Information Collection Activities: Comment

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 65 FR 81549 and no comments were received. NSF is forwarding the proposed submission to the Office of Management and Budget (OMB) for clearance simultaneously with the publication of this second notice.

DATES: Comments regarding these information collections are best assured of having their full effect if received on or before April 16, 2001.

ADDRESSES: Written comments regarding (a) whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW. Room 10235, Washington, DC 20503, and to Teresa R. Pierce, Reports Clearance Officer, National Science Foundation, 4201 Wilson Boulevard, Suite 295, Arlington, Virginia 22230 or send email to tpierce@nsf.gov. Copies of the submission may be obtained by calling (703) 292-7555.

FOR FURTHER INFORMATION CONTACT: Teresa R. Pierce, Reports Clearance Officer at (703) 292-7555 or send email to tpierce@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: National Science Foundation Information Technology Innovation Survey

OMB Control No.: 3145-NEW.

Abstract:

Proposed Project: The NSF plans to survey a nationally representative sample of about 3,750 U.S. businesses in selected manufacturing and service-sector industries. The survey is designed to collect information about the planning for and impact of technological innovation. Using Web and Computer-Assisted Telephone Interviewing technologies, firms will be asked about their strategic planning, use of technology, innovation activities based on information technology, factors influencing the decision to innovate, and the costs and expected benefits of information technology based innovation.

Use of the Information: The information will be used by NSF to: (1) Develop nationally representative profiles of corporate information technology innovators and users; (2) provide the means for comparative analyses among similar national studies; and (3) provide data for use by policy-makers to assist in understanding the development and use of information technology as they relate to formulating technology policy, regulatory reform, and other issues.

Estimate of Burden: Public reporting burden for this collection of information is estimated to average 12 minutes per response.

Respondents: Business or other for-profit.

Estimated Number of Responses per Form: One.

Estimated Total Annual Burden or Respondents: 750 hours—3,750 respondents at 12 minutes per response.

Frequency of Responses: Once.

Dated: March 9, 2001.
Teresa R. Pierce,
Reports Clearance Officer.

[FR Doc. 01-6397 Filed 3-14-01; 8:45 am]

BILLING CODE 7555-01-M